DEPARTMENT OF DEFENSE

Office of the Secretary

Department of Defense Wage Committee (DoDWC); Notice of Federal Advisory Committee Meeting

AGENCY: Under Secretary of Defense for Personnel and Readiness, Department of Defense (DoD).

ACTION: Notice of closed Federal advisory committee meetings.

SUMMARY: The DoD is publishing this notice to announce that the following Federal Advisory Committee meetings of the DoDWC will take place.

DATES:

Tuesday, January 25, 2022 from 10:00 a.m. to 11:00 a.m. and will be closed to the public.

Tuesday, February 8, 2022 from 10:00 a.m. to 11:00 a.m. and will be closed to the public.

Tuesday, February 22, 2022 from 10:00 a.m. to 11:00 a.m. and will be closed to the public.

Tuesday, March 8, 2022 from 10:00 a.m. to 12:00 p.m. and will be closed to the public.

Tuesday, March 22, 2022 from 10:00 a.m. to 12:00 p.m. and will be closed to the public.

Tuesday, April 5, 2022 from 10:00 a.m. to 12:00 p.m. and will be closed to the public.

Tuesday, April 19, 2022 from 10:00 a.m. to 1:00 p.m. and will be closed to the public.

ADDRESSES: The closed meetings will be held by teleconference.

FOR FURTHER INFORMATION CONTACT: Mr. Karl Fendt, (571) 372-1618 (voice), karl.h.fendt.civ@mail.mil (email), 4800 Mark Center Drive, Suite 05G21, Alexandria, Virginia 22350 (mailing address). Any agenda updates can be found at the DoDWC's official website: https://wageandsalary.dcpas.osd.mil/BWN/DODWC/.

SUPPLEMENTARY INFORMATION: Due to circumstances beyond the control of the Department of Defense and the Designated Federal Officer, the DoDWC was unable to provide public notification required by 41 CFR 102-3.450(a) concerning its meeting of January 25, 2022 meeting. Accordingly, the Advisory Committee Management Officer for the Department of Defense, pursuant to 41 CFR 102-3.150(b), waives the 15-calendar day notification requirement. These meetings are being held under the provisions of the Federal Advisory Committee Act (FACA) (5 U.S.C., appendix), the Government in the Sunshine Act (5 U.S.C. 552b), and 41 CFR 102-3.140 and 102-3.150.

Purpose of the Meeting: The purpose of these meetings is to provide independent advice and recommendations on matters relating to the conduct of wage surveys and the establishment of wage schedules for all appropriated fund and non-appropriated fund areas of blue-collar employees within the Department of Defense.

Agendas

January 25, 2022

Opening Remarks.

Reviewing survey results and/or survey specifications for the following Appropriated Fund areas:

1. Any items needing further clarification or action from the previous agenda.

2. Survey Specifications for the Tampa-St. Petersburg, Florida wage area (AC-035).

3. Survey Specifications for the Lake Charles-Alexandria, Louisiana wage area (AC-060).

4. Survey Specifications for the El Paso, Texas wage area (AC-132).

5. Any items needing further clarification from this agenda may be discussed during future scheduled meetings.

Closing Remarks.

February 8, 2022

Opening Remarks.

Reviewing survey results and/or survey specifications for the following Nonappropriated Fund areas:

1. Any items needing further clarification or action from the previous agenda.

2. Survey Specifications for the Pennington, South Dakota wage area (AC-086).

3. Survey Specifications for the Nueces, Texas wage area (AC-115).

4. Survey Specifications for the Bexar, Texas wage area (AC-117).

5. Survey Specifications for the Anchorage, Alaska wage area (AC-118).

6. Survey Specifications for the Kitsap, Washington wage area (AC-142).

7. Survey Specifications for the Dallas, Texas wage area (AC-152).

8. Survey Specifications for the Tarrant, Texas wage area (AC-156).

Reviewing survey results and/or survey specifications for the following Appropriated Fund areas:

9. Survey Specifications for the Shreveport, Louisiana wage area (AC-062).

10. Survey Specifications for the Central North Carolina wage area (AC-099).

11. Survey Specifications for the Norfolk-Portsmouth-Newport News-Hampton, Virginia wage area (AC-140).

12. Any items needing further clarification from this agenda may be discussed during future scheduled meetings.

Closing Remarks.

February 22, 2022

Opening Remarks.

Reviewing survey results and/or survey specifications for the following Nonappropriated Fund areas:

1. Any items needing further clarification or action from the previous agenda.

2. Wage Schedule (Full Scale) for the Washoe-Churchill, Nevada wage area (AC-011).

3. Wage Schedule (Full Scale) for the Orange, Florida wage area (AC-062).

4. Wage Schedule (Full Scale) for the Bay, Florida wage area (AC-063).

5. Wage Schedule (Full Scale) for the Escambia, Florida wage area (AC-064).

6. Wage Schedule (Full Scale) for the Okaloosa, Florida wage area (AC-065).

7. Wage Schedule (Full Scale) for the Clark, Nevada wage area (AC-140).

8. Wage Schedule (Wage Change) for the Brevard, Nevada wage area (AC-061).

9. Wage Schedule (Wage Change) for the Hillsborough, Florida wage area (AC-119).

10. Wage Schedule (Wage Change) for the Miami-Dade, Florida wage area (AC-158).

11. Wage Schedule (Wage Change) for the Duval, Florida wage area (AC-159).

12. Wage Schedule (Wage Change) for the Monroe, Florida wage area (AC-160).

Reviewing survey results and/or survey specifications for the following Appropriated Fund areas:

13. Survey Specifications for the Augusta, Maine wage area (AC-063).

14. Survey Specifications for the Columbia, South Carolina wage area (AC-120).

15. Any items needing further clarification from this agenda may be discussed during future scheduled meetings.

Closing Remarks.

March 8, 2022

Opening Remarks.

Reviewing survey results and/or survey specifications for the following Nonappropriated Fund areas:

1. Any items needing further clarification or action from the previous agenda.

2. Survey Specifications for the Arapahoe-Denver, Colorado wage area (AC-084).

3. Survey Specifications for the El Paso, Colorado wage area (AC-085).

4. Survey Specifications for the Laramie, Wyoming wage area (AC-087).

5. Survey Specifications for the New London, Connecticut wage area (AC-136).

6. Survey Specifications for the Snohomish, Washington wage area (AC-141).

7. Survey Specifications for the Pierce, Washington wage area (AC-143).

8. Survey Specifications for the Newport, Rhode Island wage area (AC-167).

Reviewing survey results and/or survey specifications for the following Appropriated Fund areas:

9. Wage Schedule (Full Scale) for the Birmingham, Alabama wage area (AC-002).

10. Wage Schedule (Full Scale) for the Southern Colorado wage area (AC-023).

11. Wage Schedule (Full Scale) for the Hagerstown-Martinsburg-Chambersburg, Maryland wage area (AC-067).

12. Wage Schedule (Full Scale) for the Dayton, Ohio wage area (AC-107).

13. Wage Schedule (Full Scale) for the Harrisburg, Pennsylvania wage area (AC-114).

14. Wage Schedule (Full Scale) for the Wyoming wage area (AC-150).

15. Wage Schedule (Wage Change) for the Detroit, Michigan wage area (AC-070).

16. Wage Schedule (Wage Change) for the Columbus, Ohio wage area (AC-106).

17. Any items needing further clarification from this agenda may be discussed during future scheduled meetings.

Closing Remarks.

March 22, 2022

Opening Remarks.

Reviewing survey results and/or survey specifications for the following Nonappropriated Fund areas:

1. Any items needing further clarification or action from the previous agenda.

2. Wage Schedule (Full Scale) for the Onslow, North Carolina wage area (AC-097).

3. Wage Schedule (Full Scale) for the Shelby, Tennessee wage area (AC-098).

4. Wage Schedule (Full Scale) for the Christian, Kentucky/Montgomery, Tennessee wage area (AC-099).

5. Wage Schedule (Full Scale) for the Charleston, South Carolina wage area (AC-120).

6. Wage Schedule (Full Scale) for the San Juan-Guaynabo, Puerto Rico wage area (AC-155).

7. Wage Schedule (Wage Change) for the Sacramento, California wage area (AC-002).

8. Wage Schedule (Wage Change) for the San Joaquin, California wage area (AC-008).

9. Wage Schedule (Wage Change) for the Bernalillo, New Mexico wage area (AC-019).

10. Wage Schedule (Wage Change) for the Dona Ana, New Mexico wage area (AC-021).

11. Wage Schedule (Wage Change) for the El Paso, Texas wage area (AC-023).

Reviewing survey results and/or survey specifications for the following Appropriated Fund areas:

12. Wage Schedule (Full Scale) for the New York, New York wage area (AC-094).

13. Wage Schedule (Wage Change) for the Denver, Colorado wage area (AC-022).

14. Wage Schedule (Wage Change) for the Jacksonville, Florida wage area (AC-030).

15. Wage Schedule (Wage Change) for the Miami, Florida wage area (AC-031).

16. Wage Schedule (Wage Change) for the Southeastern North Carolina wage area (AC-101).

17. Wage Schedule (Wage Change) for the Cincinnati, Ohio wage area (AC-104).

18. Wage Schedule (Wage Change) for the Narragansett Bay, Rhode Island wage area (AC-118).

19. Wage Schedule (Wage Change) for the Dallas-Ft. Worth, Texas wage area (AC-131).

20. Survey Specifications for the Hawaii wage area (AC-044).

21. Survey Specifications for the Central & Western Massachusetts wage area (AC-069).

22. Survey Specifications for the Southwestern Wisconsin wage area (AC-149).

23. Special Pay—Narragansett Bay, Rhode Island Special Rates.

24. Any items needing further clarification from this agenda may be discussed during future scheduled meetings.

Closing Remarks.

April 5, 2022

Opening Remarks.

Reviewing survey results and/or survey specifications for the following Nonappropriated Fund areas:

1. Any items needing further clarification or action from the previous agenda.

2. Survey Specifications for the Frederick, Maryland wage area (AC-088).

3. Survey Specifications for the Washington, District of Columbia wage area (AC-124).

4. Survey Specifications for the Alexandria-Arlington-Fairfax, Virginia wage area (AC-125).

5. Survey Specifications for the Prince William, Virginia wage area (AC-126).

6. Survey Specifications for the Prince George's-Montgomery, Maryland wage area (AC-127).

7. Survey Specifications for the Charles-St. Mary's, Maryland wage area (AC-128).

8. Survey Specifications for the Anne Arundel, Maryland wage area (AC-147).

Reviewing survey results and/or survey specifications for the following Appropriated Fund areas:

9. Wage Schedule (Full Scale) for the Salinas-Monterey, California wage area (AC-015).

10. Wage Schedule (Wage Change) for the Sacramento, California wage area (AC-014).

11. Wage Schedule (Wage Change) for the Stockton, California wage area (AC-020).

12. Wage Schedule (Wage Change) for the Meridian, Mississippi wage area (AC-079).

13. Wage Schedule (Wage Change) for the Eastern Tennessee wage area (AC-123).

14. Survey Specifications for the Central & Northern Maine wage area (AC-064).

15. Survey Specifications for the Asheville, North Carolina wage area (AC-098).

16. Survey Specifications for the Southwestern Oregon wage area (AC-113).

17. Survey Specifications for the Austin, Texas wage area (AC-129).

18. Survey Specifications for the Corpus Christi, Texas wage area (AC-130).

19. Special Pay—Southeast Power Rate Schedule.

20. Any items needing further clarification from this agenda may be discussed during future scheduled meetings.

Closing Remarks.

April 19, 2022

Opening Remarks.

Reviewing survey results and/or survey specifications for the following Nonappropriated Fund areas:

1. Any items needing further clarification or action from the previous agenda.

2. Wage Schedule (Full Scale) for the Oklahoma, Oklahoma wage area (AC-052).

3. Wage Schedule (Full Scale) for the Harrison, Mississippi wage area (AC-070).

4. Wage Schedule (Full Scale) for the Hardin-Jefferson, Kentucky wage area (AC-096).

5. Wage Schedule (Full Scale) for the Wayne, North Carolina wage area (AC-107).

6. Wage Schedule (Full Scale) for the Cumberland, North Carolina wage area (AC-108).

7. Wage Schedule (Full Scale) for the Richland, South Carolina wage area (AC-110).

8. Wage Schedule (Full Scale) for the Wichita, Texas wage area (AC-122).

9. Wage Schedule (Full Scale) for the Comanche, Oklahoma wage area (AC-123).

10. Wage Schedule (Full Scale) for the Craven, North Carolina wage area (AC-164).

11. Wage Schedule (Wage Change) for the Lauderdale, Mississippi wage area (AC-001).

12. Wage Schedule (Wage Change) for the Lowndes, Mississippi wage area (AC-004).

13. Wage Schedule (Wage Change) for the Rapides, Mississippi wage area (AC-024).

14. Wage Schedule (Wage Change) for the Caddo-Bossier, Louisiana wage area (AC-025).

15. Wage Schedule (Wage Change) for the Chatham, Georgia wage area (AC-037).

16. Wage Schedule (Wage Change) for the Dougherty, Georgia wage area (AC-046).

17. Wage Schedule (Wage Change) for the Lowndes, Georgia wage area (AC-047).

Reviewing survey results and/or survey specifications for the following Appropriated Fund areas:

18. Wage Schedule (Full Scale) for the Lexington, Kentucky wage area (AC-058).

19. Wage Schedule (Full Scale) for the Northern Mississippi wage area (AC-077).

20. Wage Schedule (Full Scale) for the Rochester, New York wage area (AC-096).

21. Wage Schedule (Full Scale) for the Memphis, Tennessee wage area (AC-124).

22. Wage Schedule (Full Scale) for the Nashville, Tennessee wage area (AC-125).

23. Wage Schedule (Wage Change) for the Fresno, California wage area (AC-012).

24. Wage Schedule (Wage Change) for the Louisville, Kentucky wage area (AC-059).

25. Wage Schedule (Wage Change) for the Jackson, Mississippi wage area (AC-078).

26. Survey Specifications for the Alaska wage area (AC-007).

27. Survey Specifications for the Montana wage area (AC-083).

28. Survey Specifications for the Charleston, South Carolina wage area (AC-119).

29. Special Pay—Northern Mississippi Special Rates.

30. Special Pay—Fresno, California Special Rates.

31. Any items needing further clarification from this agenda may be discussed during future scheduled meetings.

Closing Remarks.

Meeting Accessibility: Pursuant to 5 U.S.C. 552b(c)(4), the DoD has determined that the meetings shall be closed to the public. The Under Secretary of Defense for Personnel and Readiness, in consultation with the Department of Defense Office of General Counsel, has determined in writing that each of these meetings may disclose trade secrets and commercial or financial information obtained from a person and privileged or confidential.

Written Statements: Pursuant to section 10(a)(3) of the Federal Advisory Committee Act and 41 CFR 102-3.140, interested persons may submit written statements to the Designated Federal Officer for the DoDWC at any time. Written statements should be submitted to the Designated Federal Officer at the email or mailing address listed above in FOR FURTHER INFORMATION CONTACT. If statements pertain to a specific topic being discussed at a planned meeting, then these statements must be submitted no later than five (5) business days prior to the meeting in question. Written statements received after this date may not be provided to or considered by the DoDWC until its next meeting. The Designated Federal Officer will review all timely submitted written statements and provide copies to all the committee members before the meeting that is the subject of this notice.

Dated: January 11, 2022.
Kayyonne T. Marston,
Alternate OSD Federal Register Liaison Officer, Department of Defense.

[FR Doc. 2022-00687 Filed 1-13-22; 8:45 am]

BILLING CODE 5001-06-P